DEPARTMENT OF COMMERCE

International Trade Administration

(A-588-867)

Initiation of Antidumping Duty Investigation: Metal Calendar Slides from Japan

AGENCY: Import Administration, International Trade Administration, Department of Commerce.

EFFECTIVE DATE: July 26, 2005.

FOR FURTHER INFORMATION CONTACT: Scott Lindsay or Nicholas Czajkowski, AD/CVD Operations, Office 6, Import Administration, International Trade Administration, U.S. Department of Commerce, 14th Street and Constitution Avenue, NW, Washington, DC 20230; telephone: (202) 482-0780 or (202) 482-1395, respectively.

SUPPLEMENTARY INFORMATION:

The Petition

On June 29, 2005, the Department of Commerce (the Department) received a petition on imports of metal calendar slides from Japan filed in proper form by Stuebing Automatic Machine Company (the petitioner). See Petition for Imposition of Antidumping Duties on Metal Calendar Slides from Japan (June 29, 2005) (petition). On July 5, 2005, the Department issued a request for additional information and clarification of certain areas of the petition. On July 6, 2005, the Department met with the petitioner's counsel to clarify issues regarding the information requested by the Department's July 5, 2005 questionnaire. See Memorandum from Dara Iserson through Thomas Gilgunn to the File, Antidumping Duty Investigation of Calendar Metal Slides from Japan (July 8, 2005). On July 8, 2005, the petitioner filed a petition amendment. See Imposition of Antidumping Duties on Metal Calendar Slides from Japan (July 11, 2005) (petition amendment). On July 13, 2005, the Department spoke with the vice president of the market research firm used by the petitioner to discuss information included in the petition. See Memorandum from Nicholas Czajkowski through Thomas Gilgunn to the File, Telephone Call to Market Research Firm Regarding the Antidumping Petition on Metal Calendar Slides from Japan (July 19, 2005).

In accordance with section 732(b) of the Tariff Act of 1930, as amended (“the Act”), the petitioner alleges that imports of metal calendar slides are being, or are likely to be, sold in the United States at less than fair value, within the meaning of section 731 of the Act, and that such imports are materially injuring, or threatening material injury to, an industry in the United States.

The Department finds that the petitioner filed this petition on behalf of the domestic industry because the petitioner is an interested party as defined in section 771(9)(C) of the Act, and petitioner has demonstrated sufficient industry support with respect to the investigation that the petitioner is requesting the Department to initiate (see “Determination of Industry Support for the Petition” below).

Scope of Investigation

The merchandise covered in this investigation is “V” and/or “U” shaped metal calendar slides manufactured from cold-rolled steel sheets, whether or not left in black form, tin plated or finished as tin free steel (“TFS”), typically with a thickness from 0.19 mm to 0.23 mm, typically in lengths from 152 mm to 915 mm, typically in widths from 12 mm to 29 mm when the slide is lying flat and before the angle is pressed into the slide (although they are not typically shipped in this “flat” form), that are typically either primed to protect the outside of the slide against oxidization or coated with a colored enamel or lacquer for decorative purposes, whether or not stacked, and excluding paper and plastic slides. Metal calendar slides are typically provided with either a plastic attached hanger or eyelet to hang and bind calendars, posters, maps or charts, or the hanger can be stamped from the metal body of the slide itself. These metal calendar slides are believed to be classified under Harmonized Tariff Schedule of the United States (HTSUS) subheading 7326.90.1000 (Other articles of iron and steel: Forged or stamped; but not further worked: Other: Of tinplate). This HTSUS number is provided for convenience and U.S. Customs and Border Protection purposes. The written description of the scope of this investigation is dispositive.

During our review of the petition, we discussed the scope with the petitioner to ensure that it is an accurate reflection of the products for which the domestic industry is seeking relief. Moreover, as discussed in the preamble to the regulations (Antidumping Duties, Countervailing Duties, Final Rule, 62 FR 27296, 27323 (May 19, 1997)), we are setting aside a period for interested parties to raise issues regarding product coverage. The Department encourages all interested parties to submit such comments within 20 calendar days of the publication of this notice. Comments should be addressed to Import Administration's Central Records Unit at Room 1870, U.S. Department of Commerce, 14th Street and Constitution Avenue, NW, Washington, DC 20230. The period of scope consultations is intended to provide the Department with ample opportunity to consider all comments and to consult with parties prior to the issuance of the preliminary determination.

Determination of Industry Support for the Petition

Section 732(b)(1) of the Act requires that a petition be filed on behalf of the domestic industry. Section 732(c)(4)(A) of the Act provides that a petition meets this requirement if the domestic producers or workers who support the petition account for (1) at least 25 percent of the total production of the domestic like product and (2) more than 50 percent of the production of the domestic like product produced by that portion of the industry expressing support for, or opposition to, the petition.

Section 771(4)(A) of the Act defines the “industry” as the producers as a whole of a domestic like product. Thus, to determine whether the petition has the requisite industry support, the statute directs the Department to look to producers and workers who produce the domestic like product. The International Trade Commission (ITC) is responsible for determining whether “the domestic industry” has been injured and must also determine what constitutes a domestic like product in order to define the industry. While the Department and the ITC must apply the same statutory definition regarding the domestic like product, they do so for different purposes and pursuant to separate and distinct authority. See section 771(10) of the Act. In addition, the Department's determination is subject to limitations of time and information. Although this may result in different definitions of the domestic like product, such differences do not render the decision of either agency contrary to law.¹

¹ See USEC, Inc. v. United States, 25 CIT 49, 132 F. Supp. 2d 1, 8 (Jan. 24, 2001) (citing Algoma Steel Corp. v. United States, 12 CIT 518, 523, 688 F. Supp. 639, 642-44 (June 8, 1988)).

Section 771(10) of the Act defines the domestic like product as “a product which is like, or in the absence of like, most similar in characteristics and uses with, the article subject to an investigation under this subtitle.” Thus, the reference point from which the domestic like product analysis begins is “the article subject to an investigation,” i.e., the class or kind of merchandise to be investigated, which normally will be the scope as defined in the petition.

With regard to domestic like product, the petitioner does not offer a definition of domestic like product distinct from the scope of the investigation. Based on our analysis of the information presented by the petitioner, we have determined that there is a single domestic like product, metal calendar slides, which is defined in the “Scope of Investigation” section above, and we have analyzed industry support in terms of the domestic like product.

We received no opposition to this petition. The petitioner accounts for 100 percent of the total production of the domestic like product, and the requirements of section 732(c)(4)(A) are met. Accordingly, the Department determines that the petition was filed on behalf of the domestic industry within the meaning of section 732(b)(1) of the Act. See “Office of AD/CVD Operations Initiation Checklist for the Antidumping Duty Petition on Metal Calendar Slides from Japan,” at Att. I (July 19, 2005) (Initiation Checklist) on file in the Central Records Unit, Room B-099 of the Department of Commerce.

Period of Investigation

The anticipated period of investigation (POI) is April 1, 2004, through March 31, 2005.

U.S. Price and Normal Value

The following is a description of the allegation of sales at less than fair value upon which the Department based its decision to initiate this investigation. The sources of data for the deductions and adjustments relating to U.S. price and normal value are discussed in greater detail in the Initiation Checklist. Should the need arise to use any of this information as facts available under section 776 of the Act, we may reexamine the information and revise the margin calculation, if appropriate.

The petition identified four producers of metal calendar slides in Japan. See petition, at 8; and petition amendment, at 2. We have relied on an actual sale price provided by the petitioner for establishing U.S. price (see petition, at Exh. 13a, at pp. 5 and 13b). This price is for metal calendar slides from Japan sold to a customer in the United States during 2004.

The petitioner deducted an amount for freight costs to the United States from the price provided to the petitioner. However, we have also made some revisions to the calculation of freight. See Initiation Checklist at Att. 4. We examined the information provided regarding U.S. price; we have determined that it represents information reasonably available to the petitioner; and, we have reviewed it for adequacy and accuracy.

Pursuant to section 773(a)(1)(B)(i) of the Act, the petitioner calculated normal value based on a written offer for sale by the Japanese producer. The petitioner obtained the information on home market prices and volume discounts for metal calendar slides, sold in the Japanese market in 2004, from two foreign market research reports. We reviewed the prices in the written offer and we determined that it represents information reasonably available to the petitioner. We have also reviewed the normal-value information the petitioner provided for adequacy and accuracy. However, we re-calculated normal value to apply exchange rates consistent with our normal practice. See Initiation Checklist at Att. 4.

Critical Circumstances

The petitioner alleges, based on trade statistics since 2002 and the seasonal nature of the industry, that there is a reasonable basis to believe or suspect that critical circumstances will exist with regard to imports of metal calendar slides from Japan. See petition, at 10 and 39.

Section 733(e)(1) of the Act states that if a petitioner alleges critical circumstances, the Department will find that such circumstances exist, at any time after the date of initiation, when there is a reasonable basis to believe or suspect that under, subparagraph (A)(i), there is a history of dumping and there is material injury by reason of dumped imports in the United States or elsewhere of the subject merchandise, or (ii) the person by whom, or for whose account, the merchandise was imported knew or should have known that the exporter was selling the subject merchandise at less than its fair value and that there was likely to be material injury by reason of such sales, and (B) there have been massive imports of the subject merchandise over a relatively short period. Section 351.206(h) of the Department's regulations defines “massive imports” as imports that have increased by at least 15 percent over the imports during an immediately preceding period of comparable duration. Section 351.206(i) of the regulations states that a relatively short period will normally be defined as the period beginning on the date the proceeding begins and ending at least three months later.

The petitioner alleges that importers knew, or should have known, that metal calendar slides were being sold at less than fair value. Specifically, the petitioner's recalculated margins are as high as 48.24 percent, a level high enough to impute importer knowledge that merchandise was being sold at less than its fair value. See e.g., Final Determination of Sales at Less Than Fair Value and Negative Final Determination of Critical Circumstances: Prestressed Concrete Steel Wire Strand from Thailand, 68 FR 68,348 (Dec. 8, 2003) (citing Preliminary Determination of Sales at Less Than Fair Value: Certain Cut-to-Length Carbon Steel Plate From the People's Republic of China, 62 FR 31,972, 31,978 (June 11, 1997)). In addition, the petitioner provided direct evidence that the importer knew, or should have known, that the exporter was selling subject imports at less than fair value. See petition, at 37-38, and Exh. 3A and 13B.

The petitioner requests that the Department immediately begin reviewing import data of the subject merchandise and that the Department request U.S. Customs & Border Protection (CBP) to compile information on an expedited basis regarding entries of subject merchandise. See petition, at 35-40. Section 732(e) of the Act states that when there is a reasonable basis to believe or suspect (1) there is a history of dumping in the United States or elsewhere of the subject merchandise, or (2) the person by whom, or for whose account, the merchandise was imported knew, or should have known, that the exporter was selling the subject merchandise at less than its fair value, the Department may request the CBP to compile information on an expedited basis regarding entries of the subject merchandise.

Taking into consideration the foregoing, we will analyze this matter further. We will monitor imports of metal calendar slides from Japan and we will request that CBP compile information on an expedited basis regarding entries of subject merchandise. See Section 732(2) of the Act. If, at any time, the criteria for a finding of critical circumstances are established, we will issue a critical circumstances finding at the earliest possible date. See Policy Bulletin 98/4, 63 FR 55364 (Oct. 15, 1998).

Fair Value Comparisons

Based on a comparison of export prices to normal values calculated in accordance with Section 773(a) of the Act, the Department recalculated estimated dumping margins ranging from 22.09 percent to 48.24 percent for metal calendar slides from Japan. Therefore, there is reason to believe that imports of metal calendar slides are being, or are likely to be, sold in the United States at less than fair value.

Allegations and Evidence of Material Injury and Causation

The petitioner alleges that the U.S. industry producing the domestic like product is being materially injured and is threatened with material injury by reason of the imports of the subject merchandise sold at less than fair value. The petitioner contends that the industry's injury is evidenced by reduced market share, lost sales, reduced production, lower capacity and capacity utilization rates, decreased U.S. shipments and inventories, decline in prices, lost revenue, reduced employment, decreased capital expenditures, decreased investment in research and development, and a decline in financial performance.

These allegations are supported by relevant evidence including import data, evidence of lost sales, and pricing information. We assessed the allegations and supporting evidence regarding material injury, threat of material injury, and causation and have determined that these allegations are supported by accurate and adequate evidence and meet the statutory requirements for initiation. See Initiation Checklist at Att. 2.

Initiation of Antidumping Investigation

Based upon the examination of the petition on metal calendar slides from Japan and other information reasonably available to the Department, the Department finds that the petition meets the requirements of section 732 of the Act. Therefore, we are initiating an antidumping duty investigation to determine whether imports of metal calendar slides from Japan are being, or are likely to be, sold in the United States at less than fair value. Unless postponed, we will make our preliminary determination no later than 140 days after the date of this initiation.

Distribution of Copies of the Petition

In accordance with section 732(b)(3)(A) of the Act, a copy of the public version of the petition has been provided to the representatives of the Government of Japan. We will attempt to provide a copy of the public version of the petition to the producers named in the petition.

International Trade Commission Notification

We have notified the ITC of our initiation, as required by section 732(d) of the Act.

Preliminary Determination by the International Trade Commission

The ITC will preliminarily determine, no later than August 15, 2005, whether there is a reasonable indication that imports of metal calendar slides are causing material injury, or threatening to cause material injury, to a U.S. industry. A negative ITC determination will result in the investigation being terminated; otherwise, this investigation will proceed according to statutory and regulatory time limits.

This notice is issued and published pursuant to section 777(i) of the Act.

Dated: July 19, 2005.
Joseph A. Spetrini,
Acting Assistant Secretary for Import Administration.

[FR Doc. 05-14728 Filed 7-25-05; 8:45 am]

Billing Code: 3510-DS-S